DEPARTMENT OF TRANSPORTATION

[Docket No. DOT-OST-2024-0104]

Advanced Research Projects Agency—Infrastructure; Request for Information

AGENCY: Department of Transportation (DOT).

ACTION: Notice; request for information (RFI).

SUMMARY: The U.S. Department of Transportation's (U.S. DOT) Advanced Research Projects Agency—Infrastructure (ARPA-I) is seeking statements of qualifications from eligible entities, defined by the Consolidated Appropriations Act, 2024 as “an accredited university of higher education in the northeast United States that has experience leading a regional university transportation center [defined as a current or past U.S. DOT-funded Regional University Transportation Center (UTC) grantee] and a proven record of developing, patenting, deploying, and commercializing innovative composite materials and technologies for bridge and other transportation applications, as well as conducting research and developing prototypes using very large-scale polymer-based additive manufacturing”. The purpose of this Request for Information (RFI) is for the U.S. DOT to determine the eligibility of entities seeking to perform research, development, and demonstration tasks on durability, resiliency, and sustainability of bridges and other infrastructure to be funded by ARPA-I as stated in the Consolidated Appropriations Act, 2024. This request for information is not a request for proposals or a notice of funding opportunity. Subsequent to this RFI, ARPA-I intends to develop a Cooperative Agreement with a single institution of higher education if only one respondent is found to be eligible, or to issue a subsequent Request for Proposals to the multiple eligible institutions of higher education identified. Respondents are required to meet the legislative requirements detailed in the Consolidated Appropriations Act, 2024.

DATES: Written submissions must be received by October 21, 2024.

Submission Instructions: Responses should be submitted electronically as a Microsoft Word document, not to exceed 15 single-sided pages in length, and 15 MB in file size. Recommended format for responses includes Times New Roman 12-point font and 1 inch page margins. Responses should be emailed to ARPA-I@dot.gov (with the Subject Line of “ARPA-I RFI Response <Institution Name>”.

FOR FURTHER INFORMATION CONTACT: For questions about this RFI, please email ARPA-I@dot.gov. You may also contact Mr. Timothy A. Klein, Director, Technology Policy and Outreach, Office of the Assistant Secretary for Research and Technology (202-366-0075), U.S. DOT or by email at timothy.klein@dot.gov.

SUPPLEMENTARY INFORMATION: This RFI seeks information that will assist ARPA-I in carrying out its research and development funding responsibilities as set forth in the Consolidated Appropriations Act, 2024 (Pub. L. 118-42; Division F, Title I; March 9, 2024) and authorized under 49 U.S.C. 119, “Advanced Research Projects Agency—Infrastructure”.

About ARPA-I

The Advanced Research Projects Agency—Infrastructure (ARPA-I) is an agency within U.S. DOT (see https://www.transportation.gov/arpa-i) that Congress established “to support the development of science and technology solutions that overcomes long-term challenges and advances the state of the art for United States transportation infrastructure.” (49 U.S.C. 119(b)). ARPA-I is modeled after the Defense Advanced Research Projects Agency (DARPA) within the U.S. Department of Defense and the Advanced Research Projects Agency-Energy (ARPA-E) within the U.S. Department of Energy. ARPA-I offers a once-in-a-generation opportunity to improve our nation's transportation infrastructure, both physical and digital, and supports DOT's strategic goals of Safety, Economic Strength and Global Competitiveness, Equity, Climate and Sustainability, and Transformation. ARPA-I focuses on developing and implementing technologies, rather than developing policies and processes or providing regulatory support. ARPA-I has a single overarching goal and focus: to fund external innovative advanced research and development (R&D) programs that develop innovative technologies, systems, and capabilities to improve transportation infrastructure in the United States.

The aims of ARPA-I include “lowering the long-term costs of infrastructure development, including costs of planning, construction, and maintenance; reducing the lifecycle impacts of transportation infrastructure on the environment, including through the reduction of greenhouse gas emissions; contributing significantly to improving the safe, secure, and efficient movement of goods and people; promoting the resilience of infrastructure from physical and cyber threats; and ensuring that the United States is a global leader in developing and deploying advanced transportation infrastructure technologies and materials.” (49 U.S.C. 119(c)(1)). Funding the development and use of advanced infrastructure technologies to address these challenges is expected to be a key future activity of ARPA-I.

ARPA-I FY 2024 Budget and Activities

The Consolidated Appropriations Act, 2024 (Pub. L. 118-42; Division F, Title I; March 9, 2024) directed that “$10,000,000 shall be for necessary expenses of the Advanced Research Projects Agency—Infrastructure (ARPA-I) as authorized by section 119 of title 49, United States Code: provided further, that within the funds made available under the preceding proviso, not less than $8,000,000 shall be available for research on durability, resiliency, and sustainability of bridges and other infrastructure and shall be directed to an accredited university of higher education in the northeast United States that has experience leading a regional university transportation center [defined as a current or past U.S. DOT-funded Regional University Transportation Center (UTC) grantee selected under 49 U.S.C. 5505] and a proven record of developing, patenting, deploying, and commercializing innovative composite materials and technologies for bridge and other transportation applications, as well as conducting research and developing prototypes using very large-scale polymer-based additive manufacturing”.

Specific Information Required

This RFI seeks information from respondents that will assist ARPA-I and the U.S. Department of Transportation in carrying out their responsibilities under Public Law 118-42. This RFI is not a request for proposals or a notice of funding opportunity. ARPA-I and the U.S. Department of Transportation are seeking responses only from respondents that meet the criteria presented in the Consolidated Appropriations Act, 2024 (Pub. L. 118-42; Division F, Title I; March 9, 2024) as quoted above.

Respondents are requested to supply the following information at a minimum in their written response (statement of qualifications):

A. Name of the responding entity (“respondent”).

B. Respondent's physical address, SAM number, and Census tract.

C. Respondent's Business Contact information, including that individual's title, name, address, telephone number and email address.

D. Respondent's Research Contact information, including that individual's title, name, address, telephone number and email address.

E. Confirmation through the provision of supporting details that the respondent is “an accredited university of higher education in the northeast United States that has experience leading a regional university transportation center” [defined as a current or past U.S. DOT-funded Regional University Transportation Center (UTC) grantee selected under 49 U.S.C. 5505].

F. Confirmation through the provision of supporting details that the respondent has “a proven record of developing, patenting, deploying, and commercializing innovative composite materials and technologies for bridge and other transportation applications”.

G. Confirmation through the provision of supporting details that the respondent has a proven record of “conducting research and developing prototypes using very large-scale polymer-based additive manufacturing”.

H. A description of the respondent's research and development (R&D) experience in developing innovative science and technology solutions in the “durability, resiliency, and sustainability of bridges and other infrastructure”.

Confidential Business Information

Do not submit information disclosure of which is restricted by statute, such as trade secrets and commercial or financial information (hereinafter referred to as Confidential Business Information “CBI”) to ARPA-I. Responses submitted to ARPA-I cannot be claimed as CBI. Responses received by ARPA-I will waive any CBI claims for the information submitted.

Issued in Washington, DC, on September 16, 2024.
Robert C. Hampshire,
Principal Deputy Assistant Secretary for Research and Technology.

[FR Doc. 2024-21512 Filed 9-19-24; 8:45 am]

BILLING CODE 4910-9X-P